DEPARTMENT OF COMMERCE

International Trade Administration

(A-570-851)

Notice of Partial Extension of Time Limit for Final Results of Antidumping Duty Administrative Review: Certain Preserved Mushrooms from the People's Republic of China

AGENCY: Import Administration, International Trade Administration, U.S. Department of Commerce.

EFFECTIVE DATE: February 5, 2007.

FOR FURTHER INFORMATION CONTACT: Brian Smith or Terre Keaton Stefanova, AD/CVD Operations, Office 2, Import Administration, International Trade Administration, U.S. Department of Commerce, 14th Street and Constitution Avenue, NW, Washington, DC, 20230; telephone: (202) 482-1766 or (202) 482-1280, respectively.

SUPPLEMENTARY INFORMATION:

Background

On November 6, 2006, the Department of Commerce (“the Department”) published in the Federal Register the preliminary results of the administrative review of the antidumping duty order on certain preserved mushrooms from the People's Republic of China (“PRC”), covering the period February 1, 2005, through January 31, 2006. See Certain Preserved Mushrooms from the People's Republic of China: Preliminary Results of Antidumping Duty Administrative Review, 71 FR 64930 (November 6, 2006). The current deadline for the final results in this review is March 6, 2007.

Partial Extension of Time Limits for Final Results of Review

Section 751(a)(3)(A) of the Tariff Act of 1930, as amended (“the Act”), requires the Department to issue the final results of the review of an antidumping duty order within 120 days after the date on which the preliminary results are published in the Federal Register. However, if it is not practicable to complete the review within this time period, section 751(a)(3)(A) of the Act allows the Department to extend the time limit for the final results to not later than 300 days from the date of publication of the preliminary results if the preliminary results deadline was unextended (which is the case in this review).

The Department finds that it is appropriate to provide the interested parties more time to submit publicly available information on certain inputs used to produce the subject merchandise for consideration in the final results of this review. Therefore, it is not practicable to complete the final results of this review within the current time frame.

Therefore, in accordance with section 751(a)(3)(A) of the Act, the Department is partially extending the time limit for completion of the final results of this review until August 3, 2007, which is 270 days after the date on which the notice of the preliminary results was published in the Federal Register.

We are issuing and publishing this notice in accordance with sections 751(a)(1) and 777 (i)(1) of the Act.

Dated: January 29, 2007.
Stephen J. Claeys,
Deputy Assistant Secretary for Import Administration.

[FR Doc. E7-1807 Filed 2-2-07; 8:45 am]

BILLING CODE 3510-DS-S